DEPARTMENT OF THE INTERIOR

Fish and Wildlife Service

[FWS-HQ-ES-2014-N081; FXES11130900000-134-FF09E32000]

Information Collection Request Sent to the Office of Management and Budget (OMB) for Approval; Endangered and Threatened Wildlife, Experimental Populations

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on May 31, 2014. We may not conduct or sponsor and a person is not required to respond to a collection of information unless it displays a currently valid OMB control number. However, under OMB regulations, we may continue to conduct or sponsor this information collection while it is pending at OMB.

DATES: You must submit comments on or before June 2, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0095” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0095.

Title: Endangered and Threatened Wildlife, Experimental Populations, 50 CFR 17.84.

Service Form Number(s): None.

Type of Request: Extension of a currently approved collection.

Description of Respondents: Individuals and households, private sector, and State/local/tribal governments.

Respondent's Obligation: Voluntary.

Frequency of Collection: On occasion.

Estimated Annual Number of Respondents: 105.

Estimated Annual Number of Responses: 105.

Completion Time Per Response: 30 minutes.

Total Annual Burden Hours: 55 (rounded).

Abstract: Section 10(j) of the Endangered Species Act of 1973 (ESA), as amended (16 U.S.C. 1531 et seq.), authorizes the Secretary of the Interior to establish experimental populations of endangered or threatened species. Because individuals of experimental populations are categorically protected under the ESA, the information we collect is important for monitoring the success of reintroduction efforts and recovery efforts in general. This is a nonform collection. Information collection requirements for experimental populations of endangered and threatened species are in 50 CFR 17.84. We collect three categories of information:

(1) General take or removal. Relates to human-related mortality, including unintentional taking incidental to otherwise lawful activities (e.g., highway mortalities); animal husbandry actions authorized to manage the population (e.g., translocation or providing aid to sick, injured, or orphaned individuals); take in defense of human life; take related to defense of property (if authorized); or take in the form of authorized harassment.

(2) Depredation-related take. Involves take for management purposes where livestock depredation is documented, and may include authorized harassment or authorized lethal take of experimental population animals in the act of attacking livestock.

(3) Specimen collection, recovery, or reporting of dead individuals. This information documents incidental or authorized scientific collection. Most of the contacts with the public deal primarily with the reporting of sightings of experimental population animals or the inadvertent discovery of an injured or dead individual.

The information that we collect includes:

• Name, address, and phone number of reporting party.

• Species involved.

• Type of incident.

• Take (quantity).

• Location and time of the reported incident.

• Description of the circumstances related to the incident.

Service recovery specialists use this information to determine the success of reintroductions in relation to established recovery plan goals for the threatened and endangered species involved. In addition, this information helps us to assess the effectiveness of control activities in order to develop better means to reduce problems with livestock for those species where depredation is a problem.

Comments Received and Our Responses

Comments: On November 8, 2013, we published in the Federal Register (78 FR 67185) a notice of our intent to request that OMB renew approval for this information collection. In that notice, we solicited comments for 60 days, ending on January 7, 2014. We received three comments in response to our 60-day notice. Two commenters urged the Service to redefine or expand the term “depredation incident.” We note the concerns raised by these individuals, but the comments do not address issues surrounding the collection of information or the cost and hour burden estimates.

Necessity of Collection

Comments: All three commenters noted that the collection of this information is necessary. One commenter stated that this information collection is necessary to ensure that the Service relies solely on the best scientific and commercial data available. Another commenter stated that the information is beneficial, but must be made available to the local governments within a short time frame. Another commenter stated that without reporting requirements for all take, it would be much more difficult to develop a responsive recovery program for these species.

Response: We concur with the importance of this information collection to ensure our programs for experimental populations are based on the best scientific and commercial data available, and, therefore, aid in development of responsive recovery programs for these species. We coordinate closely with State wildlife management agencies in the conservation and management of endangered and threatened species under the ESA, including the conservation and management of experimental populations. State wildlife agencies are our primary conservation partners, and we routinely share data with them, including the data gathered under this information collection.

Burden Estimates

Comments: One commenter stated that the burden for reporting depredations and take is grossly understated. The commenter noted the Service has not responded in a timely manner to confirm depredations, leaving citizens to report multiple times and wait by carcasses to protect them from scavengers. Another commenter stated that the costs of this collection are minimal and impose virtually no burden to the public.

Response: This information collection covers multiple experimental populations, multiple species (which may have more than one experimental population), multiple types of activities, multiple geographic locations across the United States, and multiple Service Regions. We estimate that the time required to provide the notification varies substantially, but usually ranges between 5 and 45 minutes. We acknowledge that it may take some respondents, such as State fish and wildlife agencies, longer than others to gather and compile the data prior to notifying us. State fish and wildlife agencies may provide information to us on multiple species, experimental populations, and incidents in a single notification (thereby requiring more than 15 minutes for them to provide us with the information). In contrast to State fish and wildlife agencies, the general public usually provides information on a single species, experimental population, and incident in one notification (thereby requiring substantially less than 15 minutes for them to provide us with the information).

With respect specifically to reporting information for depredation incidents, we acknowledge that it may take additional time after the take is reported for Service personnel to verify the take as a depredation incident. Verification requires physical examination of the site and carcass, which requires travel on the part of limited personnel who may be otherwise occupied at the time. We apologize for any additional burden this may cause some citizens, but note that depredation incidents are associated with only a small number of experimental populations.

Given the variety of potential situations requiring notification, as well as the variety of potential respondents, but acknowledging the added time a small number of citizens may experience for the entire interaction beyond their initial reporting of the incident themselves, we are revising our average time estimate to 30 minutes per response. We believe our estimates are within reason because they represent the average amount of time it will take to provide the requested information via making a telephone call or to send a facsimile.

Comment: General sighting reports do not appear to be included in the three categories of information collection.

Response: General sightings are included in the description of the information collection for specimen collection.

Ways to Enhance the Quality, Utility, and Clarity of Information

Comment: Sharing the data in summary form would increase the utility of the data.

Response: State wildlife agencies are our primary conservation partners, and we routinely share data with them (and vice versa), including the data gathered under this information collection.

Ways to Minimize Burden

Comments: Two commenters did not suggest ways to minimize the burden, but commented specifically with respect to the follow up by Federal employees with respect to assessment of reported depredation incidents. The third commenter stated there was “virtually no burden” (already noted above).

Response: We have not made any changes to our information collection requirements as a result of the above comments. With respect to the comments made regarding documentation of possible depredation incidents, these are law enforcement issues and do not directly relate to the collection of information addressed in this notice.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: April 28, 2014.
Tina A. Campbell,
Chief, Division of Policy and Directives Management, U.S. Fish and Wildlife Service.

[FR Doc. 2014-10043 Filed 5-1-14; 8:45 am]

BILLING CODE 4310-55-P